FEDERAL COMMUNICATIONS COMMISSION

47 CFR Part 1

[GN Docket No. 14-177; DA 14-1703]

Notice of Inquiry on Use of Spectrum Bands Above 24 GHz for Mobile Radio Services—Comment Extension

AGENCY: Federal Communications Commission.

ACTION: Extension of comment period.

SUMMARY: In this document, the Commission extends the deadline for filing comments and reply comments in response to the Notice of Inquiry (NOI) on use of spectrum bands above 24 GHz for mobile radio services. This proceeding will allow parties to more thoroughly address the complex technical, legal, and policy issues raised in the NOI.

DATES: Submit comments on or before January 15, 2015. Submit reply comments on or before February 17, 2015.

ADDRESSES: Federal Communications Commission, 445 12th Street SW., Washington, DC 20554. You may submit comments, identified by DA-14-1703, or by GN Docket No. 14-177, or by any of the following methods:

Federal eRulemaking Portal: http://www.regulations.gov. Follow the instructions for submitting comments.

Federal Communications Commission's Web site: http://www.fcc.gov/cgb/ecfs/. Follow the instructions for submitting comments.

People With Disabilities. Contact the FCC to request reasonable accommodations (accessible format documents, sign language interpreters, CART, etc.) by email: FCC504@fcc.gov or phone: (202) 418-0530 or TTY: (202) 418-0432.

Availability of Documents. Comments, reply comments, and ex parte submissions will be available for public inspection during regular business hours in the FCC Reference Center, Federal Communications Commission, 445 12th Street SW., CY-A257, Washington, DC, 20554. These documents will also be available via ECFS. Documents will be available electronically in ASCII, Microsoft Word, and/or Adobe Acrobat.

For detailed instructions for submitting comments and additional information on the rulemaking process, see the SUPPLEMENTARY INFORMATION section of this document.

FOR FURTHER INFORMATION CONTACT: For further information, please contact Charles Oliver of the Wireless Telecommunications Bureau, Broadband Division, at (202) 418-1325 or mailto:charles.oliver@fcc.gov.

SUPPLEMENTARY INFORMATION: This is a summary of the Commission's public notice, adopted and released on November 25, 2014, DA-14-1703. Copies of the public notice may be obtained from Best Copy and Printing, Inc. (BCPI), Portals II, 445 12th Street SW., Room CY-B402, Washington, DC 20554, (202) 488-5300, facsimile (202) 488-5563, or via email fcc@bcpiweb.com. The public notice and any associated documents are also available for inspection and copying during normal business hours in the FCC Reference Information Center, Room CY-A257, 445 12th Street SW., Washington, DC 20554. The complete text is also available on the Commission's Web site at https://apps.fcc.gov/edocs_public/attachmatch/DA-14-1703A1.docx.

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Electronic Filers: Comments may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington DC 20554.

People With Disabilities: To request materials in accessible formats for people with disabilities (braille, large print, electronic files, audio format), send an email to fcc504@fcc.gov or call the Consumer & Governmental Affairs Bureau at 202-418-0530 (voice), 202-418-0432. (tty).

Summary

1. On November 19, 2014, the Satellite Industry Association (SIA) filed a motion to extend the comment deadline in the above-captioned proceeding from December 16, 2014 until January 15, 2015. SIA also requested that the deadline for filing reply comments be extended from January 15, 2015 to February 17, 2015. SIA asserts that analyzing bands for spectrum sharing with widely-deployed mobile wireless services requires extensive analysis and review and notes that the Commission is seeking comment on multiple bands in which satellite operations are authorized. According to SIA, each of these bands is unique and requires an analysis of current and future satellite operations. James E. Whedbee supports the SIA Motion.

2. It is the general policy of the Commission that extensions of time shall not be routinely granted. Under these circumstances, however, we agree that an extension of time to file comments and reply comments is warranted to ensure that the Commission obtains a complete and thorough record in response to the NOI. The NOI is the first step in a process to examine the use of new, innovative technologies that could enable the use of frequencies above 24 GHz for mobile services. The NOI seeks comment on a wide variety of novel technical, policy and legal issues related to the possible use of bands above 24 GHz for mobile services. We conclude that a short extension of time is warranted to enable interested parties sufficient opportunity to review and respond to the complex issues raised by the NOI, to ultimately help the Commission “discern what frequency bands above 24 GHz would be most suitable for mobile services, and to begin developing a record on mobile service rules and a licensing framework for mobile services in those bands.”

3. Accordingly, pursuant to section 4(i) of the Communications Act of 1934, as amended, and § 1.46 of the Commission's rules, we extend the deadline for filing comments until January 15, 2015. We also extend the deadline for filing reply comments until February 17, 2015.

Federal Communications Commission.
Blaise A. Scinto,
Chief, Broadband Division, Wireless Telecommunications Bureau.

[FR Doc. 2014-28733 Filed 12-8-14; 8:45 am]

BILLING CODE 6712-01-P